DEPARTMENT OF TRANSPORTATION

Federal Aviation Administration

14 CFR Part 39

[Docket No. FAA-2016-9500; Product Identifier 2016-NM-140-AD; Amendment 39-19072; AD 2017-21-01]

RIN 2120-AA64

Airworthiness Directives; Dassault Aviation Airplanes

AGENCY: Federal Aviation Administration (FAA), Department of Transportation (DOT).

ACTION: Final rule.

SUMMARY: We are adopting a new airworthiness directive (AD) for all Dassault Aviation Model FAN JET FALCON, FAN JET FALCON SERIES C, D, E, F, and G; and Model MYSTERE-FALCON 20-C5, 20-D5, 20-E5, and 20-F5 airplanes. This AD was prompted by reports of defective fire extinguisher tubes. This AD requires replacement of the affected fire extinguisher tubes with improved fire extinguisher tubes. We are issuing this AD to address the unsafe condition on these products.

DATES: This AD is effective November 27, 2017.

The Director of the Federal Register approved the incorporation by reference of a certain publication listed in this AD as of November 27, 2017.

ADDRESSES: For service information identified in this final rule, contact Dassault Falcon Jet Corporation, Teterboro Airport, P.O. Box 2000, South Hackensack, NJ 07606; telephone 201-440-6700; Internet http://www.dassaultfalcon.com. You may view this referenced service information at the FAA, Transport Standards Branch, 1601 Lind Avenue SW., Renton, WA. For information on the availability of this material at the FAA, call 425-227-1221. It is also available on the Internet at http://www.regulations.gov by searching for and locating Docket No. FAA-2016-9500.

Examining the AD Docket

You may examine the AD docket on the Internet at http://www.regulations.gov by searching for and locating Docket No. FAA-2016-9500; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Section, Transport Standards Branch, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to all Dassault Aviation Model FAN JET FALCON, and Model MYSTERE-FALCON 20-C5, 20-D5, 20-E5, and 20-F5 airplanes. The NPRM published in the Federal Register on December 20, 2016 (81 FR 92747) (“the NPRM”). The NPRM was prompted by reports of defective fire extinguisher tubes. The NPRM proposed to require replacement of the affected fire extinguisher tubes with improved fire extinguisher tubes. We are issuing this AD to prevent fire extinguisher failure. Such a failure could result in the inability to extinguish a fire in the rear compartment, and possible damage to the airplane and injury to the occupants.

The European Aviation Safety Agency (EASA), which is the Technical Agent for the Member States of the European Union, has issued EASA Airworthiness Directive 2016-0154, dated July 28, 2016 (referred to after this as the Mandatory Continuing Airworthiness Information, or “the MCAI”), to correct an unsafe condition for all Dassault Aviation Model FAN JET FALCON, FAN JET FALCON SERIES C, D, E, F, and G; and Model MYSTERE-FALCON 20-C5, 20-D5, 20-E5, and 20-F5 airplanes. The MCAI states:

Several defective extinguisher tubes have been found on certain Dassault Aviation Fan Jet Falcon aeroplanes. The results of the investigations concluded that these occurrences were caused by corrosion.

This condition, if not corrected, could impact the capability to extinguish a fire in the rear compartment of the aeroplane, possibly resulting in damage to the aeroplane and injury to the occupants.

For the reason described above, this [EASA] AD requires the replacement of the affected tubes with improved fire extinguisher tube. In addition, this [EASA] AD prohibits (re)installation of the affected fire extinguisher tubes on an aeroplane.

You may examine the MCAI in the AD docket on the Internet at http://www.regulations.gov by searching for and locating Docket No. FAA-2016-9500.

Comments

We gave the public the opportunity to participate in developing this AD. The following presents the comments received on the NPRM and the FAA's response to each comment.

Request To Change Compliance Time From Flight Cycles to Flight Hours

Dassault Aviation noted that paragraph (g) of the proposed AD specified a compliance time of 450 flight cycles but the MCAI specified a compliance time of 450 flight hours. Dassault Aviation requested that we change the compliance time in the proposed AD to specify flight hours.

We acknowledge the commenter's request and agree that we inadvertently referred to “flight cycles” instead of “flight hours” in paragraph (g) of the proposed AD. Using flight cycles gives operators approximately 3 additional months to comply with the proposed action based on the average fleet utilization of these airplanes. However, to reduce the compliance time of the proposed AD would necessitate (under the provisions of the Administrative Procedure Act) reissuing the notice, reopening the period for public comment, and eventually issuing a final rule. Those actions would add even more time to the rulemaking process and further delay mitigation of the unsafe condition. We find that delaying issuance of this final rule is inappropriate in light of the identified unsafe condition. Most ADs, including this one, permit operators to accomplish the requirements of an AD at a time earlier than the specified compliance time. To more closely match the EASA specified compliance time without compromising safety, we have changed the compliance time in paragraph (g) of this AD to “within 450 flight cycles or 450 flight hours, whichever occurs later after the effective date of this AD.”

Request To Change the Compliance Method

One commenter, Robert Bowers, requested that we change the compliance method in the proposed AD to match that specified in AD 2015-20-08, Amendment 39-18287 (80 FR 60795, October 8, 2015) (“AD 2015-20-08”). AD 2015-20-08 requires that certain other fire extinguisher tubes be inspected every 13 months, until they need to be replaced by a new tube. The commenter added that he has inspected two Falcon airplanes and finds no reason to replace these fire extinguisher tubes at this time.

We disagree with the commenter's request. The location of the fire extinguisher tubes addressed by this AD is more critical from a design perspective than that of the fire extinguisher tubes addressed by AD 2015-20-08. The applicable fire extinguisher tubes must be replaced with tubes having an improved design to address the unsafe condition. We have not changed this AD in this regard.

Explanation of Change to NPRM

In the proposed AD, we stated the applicability included “Dassault Aviation Model FAN JET FALCON” airplanes and inadvertently left out “SERIES C, D, E, F, and G” from the description. For clarity, we have revised the applicability to read “Dassault Aviation Model FAN JET FALCON, FAN JET FALCON SERIES C, D, E, F, and G airplanes . . .” in this final rule. This change does not expand the scope of the final rule or add airplanes to the applicability.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Dassault Aviation has issued Service Bulletin F20-790, dated September 14, 2016. This service information describes procedures for the replacement of affected fire extinguisher tubes with improved fire extinguisher tubes. This service information is reasonably available because the interested parties have access to it through their normal course of business or by the means identified in the ADDRESSES section.

Costs of Compliance

We estimate that this AD affects 133 airplanes of U.S. registry.

We estimate the following costs to comply with this AD:

Estimated Costs
Action | Labor cost | Parts cost | Cost per product | Cost on U.S. operators
Fire extinguisher tube replacement | 3 work-hours × $85 per hour = $255 | $3,100 | $3,355 | $446,215

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-21-01 Dassault Aviation: Amendment 39-19072; Docket No. FAA-2016-9500; Product Identifier 2016-NM-140-AD.

(a) Effective Date

This AD is effective November 27, 2017.

(b) Affected ADs

None.

(c) Applicability

This AD applies to the airplanes identified in paragraphs (c)(1) and (c)(2) of this AD, certificated in any category.

(1) Dassault Aviation Model FAN JET FALCON, FAN JET FALCON SERIES C, D, E, F, and G airplanes, all manufacturer serial numbers.

(2) Dassault Aviation Model MYSTERE-FALCON 20-C5, 20-D5, 20-E5, and 20-F5 airplanes, all manufacturer serial numbers.

(d) Subject

Air Transport Association (ATA) of America Code 26, Fire protection.

(e) Reason

This AD was prompted by reports of defective fire extinguisher tubes. We are issuing this AD to prevent fire extinguisher failure. Such a failure could result in the inability to extinguish a fire in the rear compartment, and possible damage to the airplane and injury to the occupants.

(f) Compliance

Comply with this AD within the compliance times specified, unless already done.

(g) Fire Extinguisher Tubes Replacement

Within 450 flight cycles or 450 flight hours, whichever occurs later after the effective date of this AD, replace each affected fire extinguisher tube, part number (P/N) MY20791-121 and P/N MY20791-122, with a serviceable fire extinguisher tube,P/N MY20791-121-1 or P/N MY20791-122-1, as applicable, in accordance with the Accomplishment Instructions of Dassault Service Bulletin F20-790, dated September 14, 2016.

(h) Parts Installation Prohibition

No person may install a fire extinguisher tube, P/N MY20791-121 or P/N MY20791-122, on any airplane, as of the applicable time specified in paragraph (h)(1) or (h)(2) of this AD.

(1) For an airplane equipped with an affected fire extinguisher tube as of the effective date of this AD: After modification of that airplane as required by paragraph (g) of this AD.

(2) For an airplane that is not equipped with an affected fire extinguisher tube as of the effective date of this AD: As of the effective date of this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Dassault Aviation's EASA Design Organization Approval (DOA). If approved by the DOA, the approval must include the DOA-authorized signature.

(j) Related Information

(1) Refer to Mandatory Continuing Airworthiness Information (MCAI) EASA Airworthiness Directive 2016-0154, dated July 28, 2016, for related information. This MCAI may be found in the AD docket on the Internet at http://www.regulations.gov by searching for and locating Docket No. FAA-2016-9500.

(2) For more information about this AD, contact Tom Rodriguez, Aerospace Engineer, International Section, Transport Standards Branch, FAA, 1601 Lind Avenue SW., Renton, WA 98057-3356; telephone 425-227-1137; fax 425-227-1149.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F20-790, dated September 14, 2016.

(ii) Reserved.

(3) For service information identified in this AD, contact Dassault Falcon Jet Corporation, Teterboro Airport, P.O. Box 2000, South Hackensack, NJ 07606; telephone 201-440-6700; Internet http://www.dassaultfalcon.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 11, 2017.
Dionne Palermo,
Acting Director, System Oversight Division, Aircraft Certification Service.

[FR Doc. 2017-22564 Filed 10-20-17; 8:45 am]

BILLING CODE 4910-13-P